DEPARTMENT OF TRANSPORTATION

Federal Aviation Administration

14 CFR Part 39

[Docket No. FAA-2006-23760; Directorate Identifier 2005-NM-211-AD]

RIN 2120-AA64

Airworthiness Directives; Airbus Model A300 B4-600R and A300 F4-600R Series Airplanes

AGENCY: Federal Aviation Administration (FAA), Department of Transportation (DOT).

ACTION: Notice of proposed rulemaking (NPRM).

SUMMARY: The FAA proposes to supersede an existing airworthiness directive (AD) that applies to certain Airbus Model A300 B4-600R and A300 F4-600R series airplanes. The existing AD requires repetitive inspections for damage of the center tank fuel pumps and fuel pump canisters and replacement of any damaged parts, and mandates modification of the canisters of the center tank fuel pumps, which terminates the repetitive inspections. For certain airplanes, this proposed AD would require a one-time inspection of the attachment bolts of the outlet flange of the canisters of the center tank fuel pumps for bolts that are too short and do not protrude through the nut, and replacement of the bolts if necessary. This proposed AD results from several reports that the attachment bolts for the canisters, modified by the requirements in the existing AD, are too short and do not fully protrude from the nuts. We are proposing this AD to prevent damage to the fuel pump and fuel pump canister, which could result in loss of flame trap capability and could provide a fuel ignition source in the center fuel tank.

DATES: We must receive comments on this proposed AD by March 6, 2006.

ADDRESSES: Use one of the following addresses to submit comments on this proposed AD.

• DOT Docket Web site: Go to http://dms.dot.gov and follow the instructions for sending your comments electronically.

• Government-wide rulemaking Web site: Go to http://www.regulations.gov and follow the instructions for sending your comments electronically.

• Mail: Docket Management Facility; U.S. Department of Transportation, 400 Seventh Street, SW., Nassif Building, room PL-401, Washington, DC 20590.

• Fax: (202) 493-2251.

• Hand Delivery: Room PL-401 on the plaza level of the Nassif Building, 400 Seventh Street, SW., Washington, DC, between 9 a.m. and 5 p.m., Monday through Friday, except Federal holidays.

Contact Airbus, 1 Rond Point Maurice Bellonte, 31707 Blagnac Cedex, France, for service information identified in this proposed AD.

FOR FURTHER INFORMATION CONTACT: Thomas Stafford, Aerospace Engineer, International Branch, ANM-116, FAA, Transport Airplane Directorate, 1601 Lind Avenue, SW., Renton, Washington 98055-4056; telephone (425) 227-1622; fax (425) 227-1149.

SUPPLEMENTARY INFORMATION:

Comments Invited

We invite you to submit any relevant written data, views, or arguments regarding this proposed AD. Send your comments to an address listed in the ADDRESSES section. Include the docket number “Docket No. FAA-2006-23760; Directorate Identifier 2005-NM-211-AD” at the beginning of your comments. We specifically invite comments on the overall regulatory, economic, environmental, and energy aspects of the proposed AD. We will consider all comments received by the closing date and may amend the proposed AD in light of those comments.

We will post all comments we receive, without change, to http://dms.dot.gov, including any personal information you provide. We will also post a report summarizing each substantive verbal contact with FAA personnel concerning this proposed AD. Using the search function of that web site, anyone can find and read the comments in any of our dockets, including the name of the individual who sent the comment (or signed the comment on behalf of an association, business, labor union, etc.). You may review the DOT's complete Privacy Act Statement in the Federal Register published on April 11, 2000 (65 FR 19477-78), or you may visit http://dms.dot.gov.

Examining the Docket

You may examine the AD docket on the Internet at http://dms.dot.gov, or in person at the Docket Management Facility office between 9 a.m. and 5 p.m., Monday through Friday, except Federal holidays. The Docket Management Facility office (telephone (800) 647-5227) is located on the plaza level of the Nassif Building at the DOT street address stated in the ADDRESSES section. Comments will be available in the AD docket shortly after the Docket Management System receives them.

Discussion

On November 1, 2004, we issued AD 2004-23-08, amendment 39-13863 (69 FR 65528, November 15, 2004), for certain Airbus Model A300 B4-600R and A300 F4-600R series airplanes. That AD superseded AD 99-27-07, amendment 39-11488 (65 FR 213, January 4, 2000), to mandate modification of the canisters of the center tank fuel pumps, which would terminate the repetitive inspections required by AD 99-27-07. AD 2004-23-08 resulted from the issuance of a new French airworthiness directive, 2002-132(B), dated March 20, 2002, which mandated the modification. We issued that AD to prevent damage to the fuel pump and fuel pump canister, which could result in loss of flame trap capability and could provide a fuel ignition source in the center fuel tank.

Actions Since Existing AD Was Issued

Since we issued AD 2004-23-08, the Direction Gonorale de l'Aviation Civile (DGAC), which is the airworthiness authority for France, advises that it has received several reports that the attachment bolts for the canisters, modified by the requirements in the existing French AD, are too short and do not fully protrude from the nuts. In light of these findings, the DGAC has issued French airworthiness directive F-2005-147, dated August 17, 2005. French airworthiness directive F-2005-147 adds a one-time inspection for bolts that are too short and do not protrude from the nut, and replacement of the bolts if necessary.

Relevant Service Information

Airbus has issued Service Bulletin A300-28-6069, Revision 02, dated October 17, 2003. For airplanes on which the modification specified in the original issue or Revision 01 of the service bulletin has been accomplished, Revision 02 includes additional work. That additional work involves a one-time inspection of the attachment bolts of the outlet flange of the canisters of the center tank fuel pumps for bolts that are too short and do not protrude from the nut, and replacement of the bolts if necessary.

Airbus has also issued Service Bulletin A300-28-6087, dated April 8, 2005, for airplanes on which Airbus Service Bulletin A300-28-6069, dated September 4, 2001, or Revision 01, dated May 28, 2002, has been accomplished. The service bulletin describes procedures for a one-time inspection of the attachment bolts of the outlet flange of the canisters of the center tank fuel pumps for bolts that are too short and do not protrude from the nut, and replacement of the bolts if necessary.

Accomplishing the actions specified in the service information is intended to adequately address the unsafe condition. The DGAC mandated the service information and issued French airworthiness directive F-2005-147, dated August 17, 2005, to ensure the continued airworthiness of these airplanes in France.

FAA's Determination and Requirements of the Proposed AD

These airplane models are manufactured in France and are type certificated for operation in the United States under the provisions of section 21.29 of the Federal Aviation Regulations (14 CFR 21.29) and the applicable bilateral airworthiness agreement. Pursuant to this bilateral airworthiness agreement, the DGAC has kept the FAA informed of the situation described above. We have examined the DGAC's findings, evaluated all pertinent information, and determined that AD action is necessary for airplanes of this type design that are certificated for operation in the United States.

This proposed AD would supersede AD 2004-23-08 and would continue to require repetitive inspections for damage of the center tank fuel pumps and fuel pump canisters and replacement of any damaged parts, and modification of the canisters of the center tank fuel pumps, which terminates the repetitive inspections. For certain airplanes, this proposed AD would also require a one-time inspection of the attachment bolts of the outlet flange of the canisters of the center tank fuel pumps for bolts that are too short and do not protrude through the nut, and replacement of the bolts if necessary.

Difference Between Proposed AD and French Airworthiness Directive

The applicability of the French airworthiness directive excludes airplanes on which Airbus Service Bulletin A300-28-6069, Revision 2, or A300-28-6087 were accomplished in service. However, we have not excluded those airplanes in the applicability of this proposed AD; rather, this proposed AD would include a requirement to accomplish the actions specified in those service bulletins. This proposed requirement would ensure that the actions specified in those service bulletins are accomplished on all affected airplanes. Operators must continue to operate the airplane in the configuration required by this proposed AD unless an alternative method of compliance is approved.

Clarification of Inspection Terminology

In this proposed AD, the “inspection” specified in the service bulletins is referred to as a “detailed inspection.”

Change to Existing AD

This proposed AD would retain the requirements of the existing AD. Since AD 2004-23-08 was issued, the AD format has been revised, and certain paragraphs have been rearranged. As a result, the corresponding paragraph identifiers have changed in this proposed AD, as listed in the following table:

Revised Paragraph Identifiers
Requirement in AD 2004-23-08 | Corresponding requirement in this proposed AD
Paragraph (a) | Paragraph (f).
Paragraph (b) | Paragraph (g).
Paragraph (c) | Paragraph (h).
Paragraph (d) | Paragraph (i).

Clarification of Alternative Method of Compliance (AMOC) Paragraph

We have revised this action to clarify the appropriate procedure for notifying the principal inspector before using any approved AMOC on any airplane to which the AMOC applies.

Costs of Compliance

This proposed AD would affect about 101 airplanes of U.S. registry.

The inspections that are required by AD 99-27-07, and retained in this proposed AD, take about 2 work hours per airplane, at an average labor rate of $65 per work hour. Based on these figures, the estimated cost of the currently required inspections is $130 per airplane, per inspection cycle.

The modification that is required by AD 2004-23-08, and retained in this proposed AD, takes about 2 work hours per airplane, at an average labor rate of $65 per work hour. Required parts will cost about $9,620 per airplane. Based on these figures, the estimated cost of the currently required modification is $9,750 per airplane.

The new proposed one-time inspection would take about 1 work hour per airplane, at an average labor rate of $65 per work hour. Based on these figures, the estimated cost of the new inspection specified in this proposed AD for U.S. operators is $6,565 or $65 per airplane.

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this proposed AD would not have federalism implications under Executive Order 13132. This proposed AD would not have a substantial direct effect on the States, on the relationship between the national Government and the States, or on the distribution of power and responsibilities among the various levels of government.

For the reasons discussed above, I certify that the proposed regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this proposed AD and placed it in the AD docket. See the ADDRESSES section for a location to examine the regulatory evaluation.

List of Subjects in 14 CFR Part 39

Air transportation, Aircraft, Aviation safety, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The Federal Aviation Administration (FAA) amends § 39.13 by removing amendment 39-13863 (69 FR 65528, November 15, 2004) and adding the following new airworthiness directive (AD):

Airbus: Docket No. FAA-2006-23760; Directorate Identifier 2005-NM-211-AD.

Comments Due Date

(a) The FAA must receive comments on this AD action by March 6, 2006.

Affected ADs

(b) This AD supersedes AD 2004-23-08.

Applicability

(c) This AD applies to Airbus Model A300 B4-605R and B4-622R airplanes, and A300 F4-605R and F4-622R airplanes; certificated in any category; on which Airbus Modification 4801 has been accomplished; except airplanes on which Airbus Modification 12314 has been installed in production.

Unsafe Condition

(d) This AD results from several reports that the attachment bolts for the canisters, modified by the requirements in the existing AD, are too short and do not fully protrude from the nuts. We are issuing this AD to prevent damage to the fuel pump and fuel pump canister, which could result in loss of flame trap capability and could provide a fuel ignition source in the center fuel tank.

Compliance

(e) You are responsible for having the actions required by this AD performed within the compliance times specified, unless the actions have already been done.

Restatement of Requirements of AD 2004-23-08

Inspections

(f) Prior to the accumulation of 5,000 total hours' time-in-service or within 250 hours' time-in-service after February 8, 2000 (the effective date of AD 99-27-07, (superseded by AD 2004-23-08) amendment 39-11488), whichever occurs later, perform a detailed inspection for damage of the center tank fuel pumps and fuel pump canisters, in accordance with Airbus All Operators Telex (AOT) 28-09, dated November 28, 1998. Repeat the inspection prior to the accumulation of 12,000 total hours' time-in-service, or within 250 hours' time-in-service after accomplishment of the initial inspection, whichever occurs later. Thereafter, repeat the inspection at intervals not to exceed 250 hours' time-in-service, until accomplishment of the initial inspection required by paragraph (g) of this AD.

Note 1: For the purposes of this AD, a detailed inspection is: “An intensive examination of a specific item, installation, or assembly to detect damage, failure, or irregularity. Available lighting is normally supplemented with a direct source of good lighting at an intensity deemed appropriate. Inspection aids such as mirror, magnifying lenses, etc., may be necessary. Surface cleaning and elaborate procedures may be required.”

(g) At the applicable time specified in paragraph (g)(1), (g)(2), or (g)(3) of this AD: Perform a detailed inspection to detect damage of the center tank fuel pumps and perform an eddy current inspection to detect damage of the fuel pump canisters, in accordance with Airbus Alert Service Bulletin A300-28A6061, dated February 19, 1999; or Airbus Service Bulletin A300-28-6061, Revision 04, dated August 1, 2002. Repeat the inspections thereafter at intervals not to exceed 1,500 flight cycles, until accomplishment of paragraph (i) of this AD. Accomplishment of the inspection required by this paragraph constitutes terminating action for the requirements of paragraph (f) of this AD.

(1) For airplanes that have accumulated 11,000 or more total flight cycles as of February 8, 2000: Inspect within 300 flight cycles after February 8, 2000.

(2) For airplanes that have accumulated 8,500 or more total flight cycles, but fewer than 11,000 total flight cycles, as of February 8, 2000: Inspect within 750 flight cycles after February 8, 2000.

(3) For airplanes that have accumulated fewer than 8,500 total flight cycles as of February 8, 2000: Inspect prior to the accumulation of 7,000 flight cycles, or within 1,500 flight cycles after February 8, 2000, whichever occurs later.

Corrective Action

(h) If any damage is detected during any inspection required by this AD, prior to further flight, replace the damaged fuel pump or fuel pump canister with a new or serviceable part in accordance with Airbus Alert Service Bulletin A300-28A6061, dated February 19, 1999; or Airbus Service Bulletin A300-28-6061, Revision 04, dated August 1, 2002.

Modification

(i) Within 18 months after December 20, 2004 (the effective date of AD 2004-23-08): Modify the canisters of the center tank fuel pumps (including an operational test) by doing all the actions in accordance with paragraphs 3.A., 3.B., 3.C., and 3.D. of the Accomplishment Instructions of Airbus Service Bulletin A300-28-6069, dated September 4, 2001; Revision 01, dated May 28, 2002; or Revision 02, dated October 17, 2003. After the effective date of this AD, Revision 02 of the service bulletin must be used for accomplishing the modification. Accomplishing this modification ends the repetitive inspections required by paragraph (g) of this AD.

New Requirements of This AD

One-Time Inspection/Replacement if Necessary

(j) For airplanes on which Airbus Service Bulletin A300-28-6069, dated September 4, 2001, or Revision 01, dated May 28, 2002, has been accomplished before the effective date of this AD: Within 18 months after the effective date of this AD, perform a one-time detailed inspection of the attachment bolts of the outlet flange of the canisters of the center tank fuel pumps for bolts that are too short and do not protrude through the nut, and replace the bolts as applicable, by doing all the actions in accordance with paragraphs 3.A., 3.B., 3.C., 3.D., and 3.E. of the Accomplishment Instructions of Airbus Service Bulletin A300-28-6087, dated April 8, 2005. Do any applicable bolt replacement before further flight.

Alternative Methods of Compliance (AMOCs)

(k)(1) The Manager, International Branch, ANM-116, Transport Airplane Directorate, FAA, has the authority to approve AMOCs for this AD, if requested in accordance with the procedures found in 14 CFR 39.19.

(2) Before using any AMOC approved in accordance with § 39.19 on any airplane to which the AMOC applies, notify the appropriate principal inspector in the FAA Flight Standards Certificate Holding District Office.

(3) AMOCs approved previously in accordance with AD 2004-23-08 are approved as AMOCs for the corresponding provisions of this AD.

Related Information

(l) French airworthiness directive F-2005-147, dated August 17, 2005, also addresses the subject of this AD.

Issued in Renton, Washington, on January 25, 2006.
Ali Bahrami,
Manager, Transport Airplane Directorate, Aircraft Certification Service.

[FR Doc. E6-1418 Filed 2-1-06; 8:45 am]

BILLING CODE 4910-13-P